DEPARTMENT OF ENERGY

Federal Energy Regulatory Commission

Combined Notice of Filings #1

Take notice that the Commission received the following electric corporate filings:

Docket Numbers: EC24-99-000.

Applicants: Ellwood Power, LLC.

Description: Application for Authorization Under Section 203 of the Federal Power Act of Ellwood Power, LLC.

Filed Date: 7/8/24.

Accession Number: 20240708-5161.

Comment Date: 5 p.m. ET 7/29/24.

Docket Numbers: EC24-100-000.

Applicants: Conemaugh Power Pass-Through Holders LLC, Keystone Power Pass-Through Holders LLC.

Description: Joint Application for Authorization Under Section 203 of the Federal Power Act of Conemaugh Power Pass-Through Holders LLC et al.

Filed Date: 7/8/24.

Accession Number: 20240708-5167.

Comment Date: 5 p.m. ET 7/29/24.

Take notice that the Commission received the following Complaints and Compliance filings in EL Dockets:

Docket Numbers: EL24-125-000.

Applicants: EDP Renewables North America LLC v. PJM Interconnection, LLC.

Description: Complaint of EDP Renewables North America LLC v. PJM Interconnection, LLC.

Filed Date: 7/5/24.

Accession Number: 20240705-5012.

Comment Date: 5 p.m. ET 7/25/24.

Take notice that the Commission received the following electric rate filings:

Docket Numbers: ER10-1790-024; ER11-2041-019; ER11-3325-007; ER12-1825-038; ER13-33-009; ER14-2672-025; ER23-652-001; ER23-2802-001.

Applicants: Oxbow Solar Farm 1, LLC, Happy Solar 1, LLC, BP Energy Retail Company LLC, Collegiate Clean Energy, LLC, BP Energy Retail Company California LLC, Whiting Clean Energy, Inc., Innovative Energy Systems, LLC, BP Energy Company.

Description: Triennial Market Power Analysis for Central Region of BP Energy Company et al.

Filed Date: 7/1/24.

Accession Number: 20240701-5474.

Comment Date: 5 p.m. ET 8/30/24.

Docket Numbers: ER10-1818-039.

Applicants: Public Service Company of Colorado.

Description: Notice of Change in Status and WEIS Price Separation Analysis of Public Service Company of Colorado.

Filed Date: 7/1/24.

Accession Number: 20240701-5472.

Comment Date: 5 p.m. ET 7/22/24.

Docket Numbers: ER10-1874-019; ER10-2201-008; ER13-291-007; ER18-97-006; ER19-9-013.

Applicants: Mankato Energy Center II, LLC, MS Solar 3, LLC, EnergyMark, LLC, Marina Energy, LLC, Mankato Energy Center, LLC.

Description: Update Triennial Market Power Analysis for Central Region of Mankato Energy Center, LLC et al.

Filed Date: 7/1/24.

Accession Number: 20240701-5473.

Comment Date: 5 p.m. ET 8/30/24.

Docket Numbers: ER16-582-011; ER24-1183-001.

Applicants: Fanfare Energy, LLC, Think Energy, LLC.

Description: Triennial Market Power Analysis for Central Region of Think Energy, LLC et al.

Filed Date: 7/1/24.

Accession Number: 20240701-5471.

Comment Date: 5 p.m. ET 8/30/24.

Docket Numbers: ER17-815-005; ER10-2606-016.

Applicants: Consolidated Water Power Company, Billerud Escanaba LLC.

Description: Triennial Market Power Analysis for Central Region of Billerud Escanaba LLC et al.

Filed Date: 7/1/24.

Accession Number: 20240701-5476.

Comment Date: 5 p.m. ET 8/30/24.

Docket Numbers: ER18-2118-018; ER10-1849-032; ER10-1852-094; ER10-1951-068; ER11-2642-026; ER11-4462-092; ER12-569-027; ER12-895-031; ER12-1228-033; ER12-2227-026; ER13-712-034; ER13-2474-027; ER14-2707-028; ER14-2708-029; ER14-2709-028; ER14-2710-028; ER15-30-026; ER15-58-026; ER15-1925-026; ER15-2676-025; ER16-1440-022; ER16-1672-024; ER16-2190-022; ER16-2191-022; ER16-2240-022; ER16-2241-021; ER16-2275-021; ER16-2276-021; ER16-2297-022; ER16-2453-023; ER17-838-066; ER17-2152-019; ER18-882-020; ER18-1981-017; ER18-2003-017; ER18-2032-017; ER18-2066-012; ER18-2182-018; ER18-2314-015; ER19-1128-011; ER19-2495-013; ER19-2513-013; ER20-637-011; ER20-780-011; ER20-792-011; ER20-1907-010; ER20-1986-009; ER20-1991-011; ER20-2019-010; ER20-2064-011; ER20-2179-010; ER20-2237-011; ER20-2597-011; ER20-2603-011; ER20-2648-010; ER21-2117-009; ER21-2149-009; ER21-2225-009; ER21-2699-010; ER22-1982-008; ER22-2516-004; ER23-2629-003

Applicants: High Banks Wind, LLC, Chaves County Solar II, LLC, Great Prairie Wind, LLC, Minco Wind Energy III, LLC, Irish Creek Wind, LLC, Minco Wind Energy II, LLC, Little Blue Wind Project, LLC, Northern Divide Wind, LLC, Skeleton Creek Wind, LLC, Soldier Creek Wind, LLC, Weatherford Wind, LLC, Baldwin Wind Energy, LLC, High Majestic Wind I, LLC, Gray County Wind, LLC, Ponderosa Wind, LLC, Day County Wind I, LLC, Minco Wind I, LLC, Oklahoma Wind, LLC, Sooner Wind, LLC, Wilton Wind Energy I, LLC, Wilton Wind Energy II, LLC, Wessington Springs Wind, LLC, Rush Springs Energy Storage, LLC, Sholes Wind, LLC, Minco IV & V Interconnection, LLC, Minco Wind IV, LLC, Wildcat Ranch Wind Project, LLC, Lorenzo Wind, LLC, Pratt Wind, LLC, Elk City Renewables II, LLC, Cottonwood Wind Project, LLC, NextEra Energy Marketing, LLC, Brady Interconnection, LLC, Osborn Wind Energy, LLC, Kingman Wind Energy II, LLC, Kingman Wind Energy I, LLC, Ninnescah Wind Energy, LLC, Rush Springs Wind Energy, LLC, Brady Wind II, LLC, Brady Wind, LLC, Chaves County Solar, LLC, Roswell Solar, LLC, Cedar Bluff Wind, LLC, Breckinridge Wind Project, LLC, Palo Duro Wind Interconnection Services, LLC, Seiling Wind Interconnection Services, LLC, Palo Duro Wind Energy, LLC, Seiling Wind II, LLC, Seiling Wind, LLC, Mammoth Plains Wind Project, LLC, Steele Flats Wind Project, LLC, Cimarron Wind Energy, LLC, Ensign Wind, LLC, High Majestic Wind II, LLC, Minco Wind Interconnection Services, LLC, Blackwell Wind, LLC, NEPM II, LLC, FPL Energy South Dakota Wind, LLC, NextEra Energy Services Massachusetts, LLC, Florida Power & Light Company, Elk City Wind, LLC, Armadillo Flats Wind Project, LLC.

Description: Triennial Market Power Analysis for Southwest Power Pool Inc. Region of Armadillo Flats Wind Project, LLC et al. under ER18-2118 et al.

Filed Date: 6/28/24.

Accession Number: 20240628-5409.

Comment Date: 5 p.m. ET 8/27/24.

Docket Numbers: ER20-1996-005; ER16-1990-005; ER21-1187-004; ER21-1188-004; ER21-1217-004; ER21-1218-004; ER21-1370-005; ER21-1916-003; ER21-1961-003; ER24-482-001; ER24-847-001.

Applicants: Sunlight Road Solar, L.L.C., River Fork Solar, LLC, Big River Solar, LLC, Assembly Solar III, LLC, Assembly Solar II, LLC, St. James Solar, LLC, Iris Solar, LLC, Prairie State Solar, LLC, Dressor Plains Solar, LLC, North Star Solar PV LLC, Assembly Solar I, LLC.

Description: Triennial Market Power Analysis for Central Region of Assembly Solar I, LLC et al.

Filed Date: 7/1/24.

Accession Number: 20240701-5475.

Comment Date: 5 p.m. ET 8/30/24.

Docket Numbers: ER24-1420-002.

Applicants: Sierra Estrella Energy Storage LLC.

Description: Notice of Change in Status of Sierra Estrella Energy Storage LLC.

Filed Date: 7/3/24.

Accession Number: 20240703-5235.

Comment Date: 5 p.m. ET 7/24/24.

Docket Numbers: ER24-1421-002.

Applicants: Superstition Energy Storage LLC.

Description: Notice of Change in Status of Superstition Energy Storage LLC.

Filed Date: 7/3/24.

Accession Number: 20240703-5236.

Comment Date: 5 p.m. ET 7/24/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 9, 2024.
Debbie-Anne A. Reese,
Acting Secretary.

[FR Doc. 2024-15522 Filed 7-15-24; 8:45 am]

BILLING CODE 6717-01-P